DEPARTMENT OF AGRICULTURE

Forest Service

Secure Rural Schools Land Sales Initiative

AGENCY: Forest Service, USDA.

ACTION: Notice; request for comments.

SUMMARY: The Forest Service is seeking comments from all interested individuals and organizations on the list of National Forest System land parcels in the FY 2007 President's Budget proposal to be sold for the purpose of funding payments to Secure Rural Schools (SRS), should this program be extended by amendment to the Secure Rural Schools and Community Self-Determination Act of 2000. The sale of these parcels is contingent upon amendment of the SRS as proposed by the President.

DATES: You should submit your comments by March 30, 2006 to be assured of consideration. Comments received after that date will be considered only to the extent practicable.

ADDRESSES: You may submit your comments by e-mail to SRS_Land_Sales@fs.fed.us, by facsimile to (202) 205-1604, or by mail to USDA Forest Service, SRS Comments, Lands 4S, 1400 Independence Ave., SW., Mailstop 1124, Washington, DC 20250-0003. Electronic submission is preferred. If you submit your comments by e-mail or fax, you do not need to send a paper copy by mail.

Your comments may address the entire list of parcels identified in the President's proposal, or an individual parcel or parcels on that list. If you are commenting about a specific parcel on the list, it would be helpful to provide the parcel's number from the list and all information specifically related to the sale of that parcel.

Document and Comment Availability: In addition to publishing the full text of this document in the Federal Register, the Forest Service provides all interested persons an opportunity to view and/or print the contents of this document, the potentially eligible lands listing, and associated maps via the Internet. Information on this proposal and the Federal Register Notice can be found at http://www.fs.fed.us via the Secure Rural Schools and Community Self-Determination Act link to the “President's FY 2007 Budget Proposal for the Forest Service—Secure Rural Schools and Community Self-Determination Act Extension” page.

FOR FURTHER INFORMATION CONTACT: Cynthia R. Swanson, Assistant Director of Lands, Washington Office, 202-205-0099. Individuals who use telecommunication devices for the deaf (TDD) may call the Federal Information Relay Service (FIRS) at 1-800-877-8339 between 8 a.m. and 8 p.m., Eastern Standard Time, Monday through Friday.

SUPPLEMENTARY INFORMATION: The Secure Rural Schools and Community Self-Determination Act of 2000 (the Act) (Pub. L. 106-393) was enacted to provide transitional assistance to rural counties that had been affected by the decline in revenue from timber harvests on Federal lands. These counties traditionally relied on a share of receipts from timber harvests to fund their school systems and roads. The Act stabilized payments that are critically important to more than 4,400 rural schools and addressed many severe maintenance backlogs for county roads. Resource Advisory Committees (RACs) established under the Act have developed and proposed forest health improvement projects.

The President's fiscal year 2007 Budget for the Forest Service proposes legislation to amend the Secure Rural Schools Act. The legislation would provide a source of funding for payments under the Secure Rural Schools Act by authorizing the sale of a limited number of National Forest System lands. These parcels generally meet criteria traditionally used by the Forest Service to identify lands suitable for sale or exchange. Many of these parcels are isolated from other contiguous National Forest System lands, and because of their location, size, or configuration are not efficient to manage as a component of the National Forest System.

The Forest Service manages about 193 million acres in 155 national forests and 20 national grasslands located in 43 States across the nation. The limited number of parcels included within this proposal constitutes less than 0.2 of 1% of the National Forest System land base. A total of 304,370 acres and approximately 3,000 individual tracts have been identified on 120 national forests, 10 national grasslands, within 35 States.

The following table provides a summary of the number of acres identified for each State.

State | Region(s) | Acres of potentially eligible lands
Alabama | 8 | 3,220
Alaska | 10 | 99
Arizona | 3 | 1,030
Arkansas | 8 | 3,612
California | 5,6 | 79,825
Colorado | 2,4 | 21,572
Florida | 8 | 973
Georgia | 8 | 4,522
Idaho | 1,4,6 | 25,464
Illinois | 9 | 191
Indiana | 9 | 869
Kentucky | 8 | 4,518
Louisiana | 8 | 3,895
Michigan | 9 | 5,880
Minnesota | 9 | 2,622
Mississippi | 8 | 7,503
Missouri | 9 | 21,566
Montana | 1 | 13,948
Nebraska | 2 | 866
Nevada | 4 | 2,146
New Mexico | 3 | 7,447
North Carolina | 8 | 9,828
Ohio | 9 | 420
Oklahoma | 8 | 3,572
Oregon | 6 | 10,581
South Carolina | 8 | 4,665
South Dakota | 1,2 | 13,961
Tennessee | 8 | 2,996
Texas | 3,8 | 4,813
Utah | 4 | 5,998
Virginia | 8 | 5,717
Washington | 6 | 7,516
West Virginia | 9 | 4,836
Wisconsin | 9 | 80
Wyoming | 2,4 | 17,619
Total All States |  | 304,370

Lands located within the boundaries of any component of the National Wilderness Preservation System, National Wild and Scenic River System, National Trail System, National Recreation Area, National Monument, National Historic Site, National Preserve, or specially designated areas such as Research Natural Areas and experimental forests and ranges are not eligible for conveyance.

Many of the identified parcels have not been inventoried for natural or cultural resources specific to this proposal. However, they generally meet criteria traditionally used by the Forest Service to identify parcels for potential sale or exchange. Examples of primary benefits of disposal will include: (1) Reduction in agency costs associated with encroachments and boundary management; (2) enhancement of local economies through private sector development; and (3) increased opportunities for acquisition by local governmental entities for low income housing, parks, fire stations, water and wastewater systems, and for other community and public purposes.

The proposed sale of these parcels is contingent upon the enactment of legislation by Congress to provide revenue for the authorization of the Secure Rural Schools and Community Self-Determination Act of 2000 (Pub. L. 106-393). The Forest Service does not have general, non-specific, authority to sell National Forest System lands.

Dated: February 22, 2006.
Sally D. Collins,
Associate Chief.

[FR Doc. 06-1862 Filed 2-23-06; 1:34 pm]

BILLING CODE 3410-11-P